LIBRARY OF CONGRESS

Copyright Royalty Board

37 CFR Part 380

[Docket No. 19-CRB-0005-WR (2021-2025) COLA (2024)

Cost of Living Adjustment to Royalty Rates for Webcaster Statutory License; Correction

AGENCY: Copyright Royalty Board (CRB), Library of Congress.

ACTION: Final rule; correction.

SUMMARY: On November 30, 2023, the Copyright Royalty Judges amended regulations governing royalty rates that commercial and noncommercial noninteractive webcasters pay for eligible transmissions pursuant to the statutory licenses for the public performance of and for the making of ephemeral reproductions of sound recordings. That document contained an incorrect reference to a rate. This document corrects that reference.

DATES:

Effective date: This correction is effective December 20, 2023.

Applicability dates: The adjusted rates as published on November 30, 2023, are applicable to the period January 1, 2024, through December 31, 2024.

FOR FURTHER INFORMATION CONTACT: Anita Brown, (202) 707-7658, crb@loc.gov.

SUPPLEMENTARY INFORMATION: On November 30, 2023, at 88 FR 83508, the Copyright Royalty Judges published a rule that contained an incorrect reference to a rate in the SUPPLEMENTARY INFORMATION section. This document corrects that reference.

Correction

In the Federal Register of Thursday, November 30, 2023, in FR Rule Doc. 2023-26221, appearing on page 83508, make the following correction:

1. On page 85309, in the first column, in the fourth paragraph, correct “$0.20025” to read “$0.0025”.

Dated: December 15, 2023.
David P. Shaw,
Chief Copyright Royalty Judge.

[FR Doc. 2023-28098 Filed 12-20-23; 8:45 am]

BILLING CODE 1410-72-P